NUCLEAR REGULATORY COMMISSION

[NRC-2013-0001]

Sunshine Act Meetings

AGENCY: Nuclear Regulatory Commission.

DATE: Week of January 20, 2014.

PLACE: Commissioners' Conference Room, 11555 Rockville Pike, Rockville, Maryland.

STATUS: Public and Closed.

Week of January 20, 2014

Friday, January 24, 2014

1:10 p.m. Affirmation Session (Public Meeting) (Tentative)

USDOE HLW Repository, State of Nevada Petition for Clarification of 11/18/13 Restart Order and Related Staff Requirements Memorandum (11/27/13); “Five Parties” Motion for Reconsideration of Memorandum and Order (11/27/13) (Tentative).

* * * * *

*The schedule for Commission meetings is subject to change on short notice. Contact person for more information: Rochelle Bavol, 301-415-1651.

* * * * *

Additional Information

By a vote of 4-0 on January 24, 2014, the Commission determined pursuant to U.S.C. 552b(e) and § 9.107(a) of the Commission's rules that the above referenced Affirmation Session be held with less than one week notice to the public. The meeting was held on January 24, 2014.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, or by email at kimberly.meyer-chambers@nrc.gov. Determinations on requests for reasonable accommodation will be made on a case-by-case basis.

* * * * *

Members of the public may request to receive this information electronically. If you would like to be added to the distribution, please contact the Office of the Secretary, Washington, DC 20555 (301-415-1969), or send an email to Darlene.Wright@nrc.gov.

Dated: January 24, 2014.
Kenneth R. Hart,
Technical Coordinator, Office of the Secretary.

[FR Doc. 2014-01879 Filed 1-27-14; 4:15 pm]

BILLING CODE 7590-01-P